DEPARTMENT OF THE INTERIOR

National Park Service

[NPS-WASO-NRNHL-DTS#-30943; PPWOCRADI0, PCU00RP14.R50000]

National Register of Historic Places; Notification of Pending Nominations and Related Actions

AGENCY: National Park Service, Interior.

ACTION: Notice.

SUMMARY: The National Park Service is soliciting electronic comments on the significance of properties nominated before September 19, 2020, for listing or related actions in the National Register of Historic Places.

DATES: Comments should be submitted electronically by October 20, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before September 19, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Los Angeles County

Wilshire Vista West Historic District, Roughly bounded by South Fairfax Ave., West San Vicente Blvd., South Spaulding Ave., and Packard St. Los Angeles, SG100005714

Monterey County

St. John's Chapel, Del Monte, 1490 Mark Thomas Dr., Monterey, SG100005719

Riverside County

Bel Vista House, (Architecture of Albert Frey MPS), 1520 East Tachevah Dr., Palm Springs, MP100005718

Sacramento County

Nisei VFW Post 8985, (Asian Americans and Pacific Islanders in California, 1850-1970 MPS), 1515 4th St., Sacramento, MP100005713

KANSAS

Clay County

Clay Center Downtown Historic District, 4th to 6th Sts., Court to Lincoln Aves., Clay Center, SG100005716

LOUISIANA

Orleans Parish

Dryades Branch Library, 1924 Philip St., New Orleans, SG100005710

Terrebonne Parish

Lapeyrouse Grocery, 7243 Shoreline Dr., Chauvin vicinity, SG100005699

Daigleville School, 8542 Main St., Houma, SG100005721

NEW HAMPSHIRE

Rockingham County

Rye Town Hall, 10 Central Rd., Rye, SG100005705

NEW YORK

Bronx County

V. Santini, Inc. Warehouse, 2314-2316 Jerome Ave., Bronx, SG100005700

Columbia County

South Bay Mill, 41 Cross St., Hudson, SG100005701

Delaware County

Mountain Athletic Club Grounds, Wagner Ave. and Ballpark Ave., Fleischmanns, SG100005706

Essex County

North-Sprague Farm, 327 Cty. Rd. 55 (Walker Rd.), Essex vicinity, SG100005707

Franklin County

St. Regis Presbyterian Church, 517 Keeses Mill Rd., Keeses Mill, SG100005708

New York County

Holyrood Protestant Episcopal Church, 715 West 179th St., New York, SG100005702

Rensselaer County

William Barnet & Son Shoddy Mill, 20 Forbes Ave., Rensselaer, SG100005703

Warren County

Hague Baptist Church, 9832 NY 8 (Graphite Mountain Road), Hague, SG100005709

OREGON

Josephine County

Riverside Park, 304 SE Park St., Grants Pass, SG100005722

Multnomah County

Darcelle XV, 208 NW 3rd Ave., Portland, SG100005723

German Baptist Old People's Home, 850 NE 81st Ave., Portland, SG100005724

New Fliedner Building, (Downtown Portland, Oregon MPS), 1017 SW Washington St., Portland, MP100005725

Postal Employees Credit Union, 421 SE 10th Ave., Portland, SG100005726

Washington County

Forest Grove Downtown Historic District, Roughly bounded by one parcel north of 21st Ave., Ash, 19th, and A Sts., Forest Grove, SG100005727

UTAH

Sanpete County, Ephraim Tithing Office—Bishop's Storehouse, (Tithing Offices and Granaries of the Mormon Church TR), 64 North Main St., Ephraim, 85003671

VERMONT

Rutland County, Immaculate Heart of Mary School, 10 Lincoln Ave., Rutland City, SG100005704

A request for removal has been made for the following resource:

IOWA

Mitchell County, Otranto Bridge, (Highway Bridges of Iowa MPS), 480th Ave. over Big Cedar R., St. Ansgar vicinity, OT98000495

Nominations submitted by Federal Preservation Officers:

The State Historic Preservation Officer reviewed the following nominations and responded to the Federal Preservation Officer within 45 days of receipt of the nominations and supports listing the properties in the National Register of Historic Places.

ARIZONA

Pima County, U.S. Inspection Station-Sasabe, Arizona (Additional Documentation), AZ 286, Sasabe, AD14000243

MISSOURI

Shannon County

Alley Spring State Park Historic District, MO 106 at the Jacks Fork R., Eminence vicinity, SG100005717

WASHINGTON

Douglas County

Grand Coulee Dam Historic District, Coulee Dam, Grand Coulee vicinity, SG100005711

Grant County

Grand Coulee Dam Historic District, Coulee Dam, Grand Coulee vicinity, SG100005711

Okanogan County, Grand Coulee Dam Historic District, Coulee Dam, Grand Coulee vicinity, SG100005711

Authority: Section 60.13 of 36 CFR part 60.

Dated: September 22, 2020.
Julie H. Ernstein,
Acting Chief, National Register of Historic Places/National Historic Landmarks Program.

[FR Doc. 2020-21928 Filed 10-2-20; 8:45 am]

BILLING CODE 4312-52-P